NATIONAL AERONAUTICS AND SPACE ADMINISTRATION

[Notice 01-103]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: August 30, 2001.

FOR FURTHER INFORMATION CONTACT: John Kusmiss, Patent Counsel, NASA Management Office-JPL, 4800 Oak Grove Drive, Mail Stop 180-801, Pasadena, CA 91109; telephone (818) 354-7770.

NASA Case No. NPO-19855-1: Carbon Dioxide Absorption Heat Pump;

NASA Case No. NPO-20148-2: Protective Fullerene (C60) Packaging System For Microelectromechanical Systems Applications;

NASA Case No. SSC-00124-1: Radiant Temperature Nulling Radiometer.

Dated: August 22, 2001.
Edward A. Frankle,
General Counsel.

[FR Doc. 01-21871 Filed 8-29-01; 8:45 am]

BILLING CODE 7510-01-P